DEPARTMENT OF HEALTH AND HUMAN SERVICES

Health Resources And Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2019, through September 30, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: October 11, 2019.
Thomas J. Engels,
Acting Administrator.

List of Petitions Filed

1. Dianna Heiner, McKinney, Texas, Court of Federal Claims No: 19-1339V

2. Phillip Shaak, Lancaster, Pennsylvania, Court of Federal Claims No: 19-1341V

3. Jonathan Ledee, Greenvale, New York, Court of Federal Claims No: 19-1342V

4. Renee Wyn, Dallas, Texas, Court of Federal Claims No: 19-1343V

5. Paul Eidsness, Excelsior, Minnesota, Court of Federal Claims No: 19-1344V

6. Jeffrey Warbritton, Tampa, Florida, Court of Federal Claims No: 19-1345V

7. Susan Coats, Greenville, South Carolina, Court of Federal Claims No: 19-1347V

8. Danae Plank, Charlotte, North Carolina, Court of Federal Claims No: 19-1350V

9. Shirley Worth Bodie, Gainesville, Florida, Court of Federal Claims No: 19-1351V

10. Andres DelReal, Waupun, Wisconsin, Court of Federal Claims No: 19-1352V

11. Mary Jones, Picayune, Mississippi, Court of Federal Claims No: 19-1355V

12. Aretta Diane James, Nutter Fort, West Virginia, Court of Federal Claims No: 19-1357V

13. Carmine Maiorano, Trevose, Pennsylvania, Court of Federal Claims No: 19-1358V

14. Tamara A. Walker, Greensboro, North Carolina, Court of Federal Claims No: 19-1359V

15. Joanna Holle, Georgetown, Texas, Court of Federal Claims No: 19-1360V

16. Kevin Kelly, Washington, Michigan, Court of Federal Claims No: 19-1362V

17. Angela Hiatt, Ogden, Utah, Court of Federal Claims No: 19-1363V

18. Saeeda Syed, West Valley City, Utah, Court of Federal Claims No: 19-1364V

19. Susan Kaye Roselli, Corning, California, Court of Federal Claims No: 19-1365V

20. Sherrie Lewis, Durham, North Carolina, Court of Federal Claims No: 19-1369V

21. Kristin Kelley-Stanberry, Broken Arrow, Oklahoma, Court of Federal Claims No: 19-1371V

22. Karleen Witt, St. Paul, Minnesota, Court of Federal Claims No: 19-1372V

23. Ennetta Jeans, Gainesville, Virginia, Court of Federal Claims No: 19-1374V

24. Kim Boyer, Valencia, Pennsylvania, Court of Federal Claims No: 19-1377V

25. Lisa Spratt, Garden City, New York, Court of Federal Claims No: 19-1379V

26. Jennifer Joyce, Washington, District of Columbia, Court of Federal Claims No: 19-1380V

27. Megan Lynagh, New York, New York, Court of Federal Claims No: 19-1381V

28. Ira Shankar, Sugar Land, Texas, Court of Federal Claims No: 19-1382V

29. Dana Nelson, Sioux Falls, South Dakota, Court of Federal Claims No: 19-1383V

30. David Smith, Belmont, North Carolina, Court of Federal Claims No: 19-1384V

31. Dilip Thekkoodan, Cambridge, Massachusetts, Court of Federal Claims No: 19-1385V

32. Josephine Crowley, Staten Island, New York, Court of Federal Claims No: 19-1386V

33. Lisa Clark, Safety Harbor, Florida, Court of Federal Claims No: 19-1387V

34. Yenia Castillo, Boston, Massachusetts, Court of Federal Claims No: 19-1388V

35. Richard P. McKenna, Carmel, Indiana, Court of Federal Claims No: 19-1389V

36. Martha Sue Riley, Booneville, Kentucky, Court of Federal Claims No: 19-1392V

37. Linda Joy Davis, Fort Smith, Arkansas, Court of Federal Claims No: 19-1393V

38. Matthew Karp, Norwalk, Connecticut, Court of Federal Claims No: 19-1395V

39. Michele Mulloy, Duck, North Carolina, Court of Federal Claims No: 19-1396V

40. Catalina Sastre, New York, New York, Court of Federal Claims No: 19-1397V

41. Joanne Seivwright, Bolingbrook, Illinois, Court of Federal Claims No: 19-1398V

42. Claudia Collingnon-Harvath, Stockton, California, Court of Federal Claims No: 19-1399V

43. Mariann Bird, Orange Park, Florida, Court of Federal Claims No: 19-1400V

44. Renee Goree, Milwaukee, Wisconsin, Court of Federal Claims No: 19-1401V

45. Michelle Leatherman, Weatherford, Texas, Court of Federal Claims No: 19-1402V

46. Kevin Sarni on behalf of Audrey Hinojosa (Hernandez) Sarni, Oro Valley, Arizona, Court of Federal Claims No: 19-1403V

47. Ronald Davison on behalf of Estate of Gary Davison, North Chicago, Illinois, Court of Federal Claims No: 19-1404V

48. Joseph Filipovich, Cottage Grove, Minnesota, Court of Federal Claims No: 19-1406V

49. Roxanna Commanche, Farmington, New Mexico, Court of Federal Claims No: 19-1409V

50. Jennifer Lee Smith, Salt Lake City, Utah, Court of Federal Claims No: 19-1410V

51. Alaina Guymon, Seattle, Washington, Court of Federal Claims No: 19-1411V

52. Kathie Smith, Chevy Chase, Maryland, Court of Federal Claims No: 19-1412V

53. Tandy Thomas, McAlester, Oklahoma, Court of Federal Claims No: 19-1413V

54. Ellen Moss, Hudson, New York, Court of Federal Claims No: 19-1415V

55. Jeanette Peregoy, Dunkirk, Maryland, Court of Federal Claims No: 19-1416V

56. Jesus Garcia, Spring Hill, Florida, Court of Federal Claims No: 19-1418V

57. Eden Williams, Dresher, Pennsylvania, Court of Federal Claims No: 19-1420V

58. Darla Johnson, Greensboro, North Carolina, Court of Federal Claims No: 19-1422V

59. Kelly Bradley, Charlotte, North Carolina, Court of Federal Claims No: 19-1423V

60. Julia Simpson, Germantown, Tennessee, Court of Federal Claims No: 19-1424V

61. Antoinette Norris, Stuart, Florida, Court of Federal Claims No: 19-1425V

62. Sean Holtzclaw, Fort Wayne, Indiana, Court of Federal Claims No: 19-1426V

63. Kimberly Melhado, Huntington, New York, Court of Federal Claims No: 19-1427V

64. Lisa McGuire, Fountainville, Pennsylvania, Court of Federal Claims No: 19-1428V

65. Craig Pederson, San Antonio, Texas, Court of Federal Claims No: 19-1429V

66. Charles Kootsares, Easton, Pennsylvania, Court of Federal Claims No: 19-1430V

67. Katherine D. Wham, Seattle, Washington, Court of Federal Claims No: 19-1431V

68. Amy Norton, Somerville, Massachusetts, Court of Federal Claims No: 19-1432V

69. Alexi Stoev, Lakewood Ranch, Florida, Court of Federal Claims No: 19-1433V

70. Brianna Zabek, Woodstock, Georgia, Court of Federal Claims No: 19-1434V

71. Ronald Adkins, Senatobia, Mississippi, Court of Federal Claims No: 19-1435V

72. Matthew Driggers, Tallahassee, Florida, Court of Federal Claims No: 19-1436V

73. Kenneth Lauria, Schaumburg, Illinois, Court of Federal Claims No: 19-1437V

74. Debra Blom, South Lyon, Michigan, Court of Federal Claims No: 19-1438V

75. Stacy Helton, Mt. Sterling, Kentucky, Court of Federal Claims No: 19-1440V

76. Benjamin Mynhier, Mt. Sterling, Kentucky, Court of Federal Claims No: 19-1441V

77. Michael G. McCarty, Mt. Sterling, Kentucky, Court of Federal Claims No: 19-1442V

78. John Thomas, Mt. Sterling, Kentucky, Court of Federal Claims No: 19-1443V

79. Richard Lykins, Mt. Sterling, Kentucky, Court of Federal Claims No: 19-1444V

80. Jeremy Adams, Mt. Sterling, Kentucky, Court of Federal Claims No: 19-1445V

81. Elaine Dimeo, Belmont, North Carolina, Court of Federal Claims No: 19-1447V

82. Kathleen Carlow, Albuquerque, New Mexico, Court of Federal Claims No: 19-1449V

83. Katherine Krietor, Phoenix, Arizona, Court of Federal Claims No: 19-1450V

84. Sabrina Compton and Wayne Compton on behalf of L.C., Crystal River, Florida, Court of Federal Claims No: 19-1455V

85. Kristinia Brooks, Greenville, South Carolina, Court of Federal Claims No: 19-1456V

86. Karen Conley, Santa Fe, New Mexico, Court of Federal Claims No: 19-1458V

87. Ernest Robirts on behalf of Estate of Harriet Robirts, Deceased, Jacksonville, Florida, Court of Federal Claims No: 19-1460V

88. Roy Levitt, Boston, Massachusetts, Court of Federal Claims No: 19-1461V

89. Joann Manzella, Boston, Massachusetts, Court of Federal Claims No: 19-1462V

90. Elizabeth Loughren, Cooperstown, New York, Court of Federal Claims No: 19-1463V

91. Joseph Crocker, Gainesville, Georgia, Court of Federal Claims No: 19-1465V

92. Mary Ann Jones, New Bern, North Carolina, Court of Federal Claims No: 19-1466V

93. Billy Beene, Russiaville, Indiana, Court of Federal Claims No: 19-1467V

94. Denise Wunderler and Michael Savino on behalf of V.C.S., Deceased, Louisville, Kentucky, Court of Federal Claims No: 19-1468V

95. William Forney, Severn, Maryland, Court of Federal Claims No: 19-1469V

96. Jeffrey Pritchett, Fargo, North Dakota, Court of Federal Claims No: 19-1470V

97. Tammy Kramer, Washington, District of Columbia, Court of Federal Claims No: 19-1471V

98. Dionne Spell, Wilson, North Carolina, Court of Federal Claims No: 19-1472V

99. Brandy Phipps, Warrensville, North Carolina, Court of Federal Claims No: 19-1473V

100. Michael Berge, Marshall, Virginia, Court of Federal Claims No: 19-1474V

101. Daniel Van Doren, Bay Pines, Florida, Court of Federal Claims No: 19-1475V

102. Deborah N. Coleman, Lynchburg, Virginia, Court of Federal Claims No: 19-1476V

103. Julie Pierantoni, Dripping Springs, Texas, Court of Federal Claims No: 19-1477V

104. Tony Riddell, Louisville, Kentucky, Court of Federal Claims No: 19-1479V

105. Shawna O'Brien, Sonora, California, Court of Federal Claims No: 19-1480V

106. Nikki Aune, Hibbing, Minnesota, Court of Federal Claims No: 19-1481V

107. George Stattner, Chicago, Illinois, Court of Federal Claims No: 19-1482V

108. Christa Beate Hamilton, Renton, Washington, Court of Federal Claims No: 19-1483V

109. Carl Haught, Hawley, Pennsylvania, Court of Federal Claims No: 19-1484V

110. Christine Rottino, Wayne, New Jersey, Court of Federal Claims No: 19-1485V

111. Yvonne Sewell, Clarence, New York, Court of Federal Claims No: 19-1486V

112. Donna Baxter, St. Petersburg, Florida, Court of Federal Claims No: 19-1488V

113. Marcelina Academia, San Diego, California, Court of Federal Claims No: 19-1490V

114. Brian Oberschmid and Heather Oberschmid on behalf of J.O., Woodbury, Minnesota, Court of Federal Claims No: 19-1491V

115. Yalawa Johnson, Boston, Massachusetts, Court of Federal Claims No: 19-1493V

116. Brad Yorgy and Rachel Yorgy on behalf of H.Y., Red Lion, Pennsylvania, Court of Federal Claims No: 19-1494V

117. Michelle McNabb, Columbus, Georgia, Court of Federal Claims No: 19-1495V

118. Brittany Bartlett, Marietta, Georgia, Court of Federal Claims No: 19-1500V

119. Anna Krupp, New York, New York, Court of Federal Claims No: 19-1501V

120. Tiffany Hale, Marion, Illinois, Court of Federal Claims No: 19-1502V

121. Doris Lamberton, Sebring, Florida, Court of Federal Claims No: 19-1504V

122. Maija Harkonen, Washington, District of Columbia, Court of Federal Claims No: 19-1505V

123. Jessica Bechhofer, Boston, Massachusetts, Court of Federal Claims No: 19-1506V

124. Elizabeth Hurlbutt, Asheville, North Carolina, Court of Federal Claims No: 19-1507V

125. Brian Davis, Elizabethtown, Pennsylvania, Court of Federal Claims No: 19-1508V

126. Barbara Gill, Murrieta, California, Court of Federal Claims No: 19-1509V

127. Leo Damon, Jr., Baltimore, Maryland, Court of Federal Claims No: 19-1510V

128. William Elias, Pittsfield, Massachusetts, Court of Federal Claims No: 19-1512V

129. Barry Taylor, Dallas, Texas, Court of Federal Claims No: 19-1513V

[FR Doc. 2019-22989 Filed 10-21-19; 8:45 am]

BILLING CODE 4165-15-P